DEPARTMENT OF AGRICULTURE

Submission for OMB Review; Comment Request

September 11, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by October 17, 2018 will be considered. Written comments should be addressed to: Desk Officer for Agriculture, Office of Information and Regulatory Affairs, Office of Management and Budget (OMB), New Executive Office Building, 725 17th Street NW, Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Environmental Justice and the Urban Forest in Atlanta, GA.

OMB Control Number: 0596-0237.

Summary of Collection: Environmental justice is defined by the Environmental Protection Agency as the “fair treatment and meaningful involvement of all people . . . with respect to the development, implementation, and enforcement of environmental laws, regulations and policies.” This information collection addresses environmental justice in urban settings. Cities are often (though not always) places of particular concern for environmental justice inquires due to the greater concentration of environmental pollutants and human populations. The following statutes and regulations are relevant to this request for information collection: Executive Order 12898, Memorandum of Understanding on Environmental Justice and Executive Order 12898, National Environmental Policy Act of 1969 (Pub. L. 91-190), the Civil Rights Act of 1964 (Pub. L. 88-352).

Need and Use of the Information: The study provides an integrated approach to assessing residents' relationship to the urban forest. The collection addresses environmental justice from the perspective of urban trees; and how this resource may contribute to environmental justice in a given community or neighborhood. The agency will use this information to determine whether their programs, policies, and activities have disproportionately high and adverse human health or environmental effects on minority populations and low-income populations. If the information is not collected, efforts at the federal level to evaluate environmental justice will remain limited to methodologies that reproduce incomplete assessments of environmental justice.

Description of Respondents: Individuals or households.

Number of Respondents: 1,900.

Frequency of Responses: Reporting: Other (one time).

Total Burden Hours: 215.

Ruth Brown,
Departmental Information Collection Clearance Officer.

[FR Doc. 2018-20070 Filed 9-14-18; 8:45 am]

BILLING CODE 3411-15-P